FEDERAL MARITIME COMMISSION

Notice of Agreement(s) Filed

The Commission hereby gives notice of the filing of the following agreement(s) under the Shipping Act of 1984. Interested parties can review or obtain copies of agreements at the Washington, DC offices of the Commission, 800 North Capitol Street, NW, Room 940. Interested parties may submit comments on an agreement to the Secretary, Federal Maritime Commission, Washington, DC 20573, within 10 days of the date this notice appears in the Federal Register.

Agreement No.: 011695-004.

Title: CMA CGM/Norasia Reciprocal Space Charter, Sailing and Cooperative Working Agreement.

Parties: Norasia Container Lines Limited, CMA CGM, S.A.

Synopsis: The proposed amendment would permit CMA CGM to swap slots from its allocation on China Shipping Container Lines Company's vessels under the CMA CGM/CSG Slot Exchange, Sailing and Cooperative Working Agreement, FMC Agreement No. 011712, with Norasia in exchange for slots from Norasia's allocation under the subject agreement.

Agreement No.: 011796.

Title: CMA CGM/Lloyd Triestino Slot Exchange, Sailing and Cooperative Working Agreement.

Parties: CMA CGM, S.A., Lloyd Triestino Di Navigazione S.p.A.

Synopsis: Under the proposed agreement, the parties may consult on sailing schedules, ports served, service frequency, and the exchange of slots or space on their respective vessels in the trades between U.S. West Coast ports and ports in Asia. The parties request expedited review.

Agreement No.: 11797.

Title: New Caribbean Service Consortium Agreement.

Parties: CMA CGM, S.A., Hapag-Lloyd Container Linie GmbH, P&O Nedlloyd Limited/P&O Nedlloyd B.V., Hamburg-Süd KG, Compania Sud Americana de Vapores, S.A.

Synopsis: The proposed agreement would permit the parties to share their vessels in the trade between ports in Puerto Rico and the U.S. Virgin Islands, on the one hand, and ports in North Europe, the Caribbean, and Central America, on the other hand.

Dated: March 25, 2002.
By Order of the Federal Maritime Commission.
Bryant L. VanBrakle,
Secretary.

[FR Doc. 02-8046 Filed 4-2-02; 8:45 am]

BILLING CODE 6730-01-P